DEPARTMENT OF AGRICULTURE

Forest Service

36 CFR Parts 217 and 219

National Forest System Land and Resource Management Planning

AGENCY: Forest Service, USDA.

ACTION: Proposed rule; extension of public comment period.

SUMMARY: On October 5, 1999, the Forest Service published a proposed rule to guide land and resource management planning on national forests and grasslands (64 FR 54074). The agency extended the public comment period for this proposed rule, which is scheduled to end on February 3, 2000 (64 FR 70204). In response to Congressional requests and the need to provide the public more time to review and evaluate the proposed regulations, the Forest Service is extending the public comment period until February 10, 2000.

DATES: Comments must be submitted in writing and must be received by February 10, 2000.

ADDRESSES: Send written comments on the proposed planning rule to the CAET-USDA Team, Attn. Planning Rule, Forest Service, USDA, 200 East Broadway, Room 103, Post Office Box 7669, Missoula, MT 59807; or via email to planreg/wo_caet@fs.fed.us; or via facsimile to (406) 329-3021.

Comments, including names and addresses when provided, are subject to public inspection and copying. The public may inspect comments received on this proposed rule in the Office of Deputy Chief, National Forest Systems, Third Floor, Southwest Wing, Yates Building, 14th and Independence Ave., SW, Washington, DC between the hours of 8:30 AM and 4:00 PM.

FOR FURTHER INFORMATION CONTACT: Bob Cunningham, Ecosystem Management Coordination Staff, telephone: (202) 205-7820.

Dated: February 1, 2000.
Barbara C. Weber,
Acting Associate Chief for Natural Resources.

[FR Doc. 00-2597 Field 2-3-00; 8:45 am]

BILLING CODE 3410-11-M